DEPARTMENT OF THE INTERIOR

Office of Surface Mining Reclamation and Enforcement

30 CFR Part 938

[SATS No.: PA-159-FOR; Docket ID: OSM-2010-0017]

Pennsylvania Regulatory Program

AGENCY: Office of Surface Mining Reclamation and Enforcement (OSM), Interior.

ACTION: Proposed rule; reopening and extension of the comment period.

SUMMARY: We are reopening and extending the public comment period on the proposed amendment to the Pennsylvania regulatory program (the “Pennsylvania program”) under the Surface Mining Control and Reclamation Act of 1977 (SMCRA or the Act) published on February 7, 2011. In response to a required program amendment codified in the Federal regulations, Pennsylvania submitted information that it believes demonstrates that sufficient funds exist to guarantee coverage of the full cost of land reclamation at all sites originally permitted and bonded under its now-defunct alternative bonding system. Pennsylvania requested that the program amendment be removed based on the information provided. The comment period is being extended to incorporate subsequent information that we received from Pennsylvania regarding one permit involving land reclamation obligations.

This document gives the times and locations that the Pennsylvania program and this submittal are available for your inspection, the comment period during which you may submit written comments, and the procedures that we will follow for the public hearing, if one is requested.

DATES: We will accept written comments until 4 p.m., local time November 1, 2011.

ADDRESSES: You may submit comments, identified by “SATS No.: PA-159-FOR; Docket ID: OSM-2010-0017” by either of the following two methods:

Federal eRulemaking Portal: http://www.regulations.gov. The proposed rule has been assigned Docket ID: OSM-2010-0017. If you would like to submit comments through the Federal eRulemaking Portal, go to http://www.regulations.gov and follow the instructions.

Mail/Hand Delivery/Courier

Mr. George Rieger, Chief,Pittsburgh Field Division,Office of Surface Mining Reclamation and Enforcement,Harrisburg Transportation Center,415 Market St., Suite 304,Harrisburg, Pennsylvania 17101,Telephone: (717) 782- 4036, E-mail: grieger@osmre.gov.

Thomas Callaghan, P.G., Director, Bureau of Mining and Reclamation, Pennsylvania Department of Environmental Protection,Rachel Carson State Office Building,P.O. Box 8461,Harrisburg, Pennsylvania 17105-8461,Telephone: (717) 787-5015, E-mail: tcallaghan@state.pa.us.

Instructions: All submissions received must include the agency Docket ID (OSM-2010-0017) for this rulemaking. For detailed instructions on submitting comments and additional information, see the SUPPLEMENTARY INFORMATION section of this document.

FOR FURTHER INFORMATION CONTACT: George Rieger, Telephone: (717) 782-4036. E-mail: grieger@osmre.gov.

SUPPLEMENTARY INFORMATION: On February 7, 2011 (76 FR 6587), we published a proposed rule that was in response to a required program amendment codified in the Federal regulations. The submission included information that Pennsylvania had submitted to demonstrate that sufficient funds exist to guarantee coverage of the full cost of land reclamation at all sites originally permitted and bonded under the now-defunct alternative bonding system. Pennsylvania requested that the program amendment be removed based on the information provided.

On June 13, 2011, (Administrative Record Number PA 802.80), we received additional information from Pennsylvania regarding recent developments involving one permit that was transferred to another company, resulting in the posting of full-cost bond in an amount to cover the land reclamation obligation. Included with this submission is the mining permit, Part C (Authorization to Mine), and the calculation sheet documenting the bond amount.

We are reopening and extending the comment period to incorporate subsequent information that we received from Pennsylvania regarding one permit involving land reclamation obligations.

Public Comment Procedures

Under the provisions of 30 CFR 732.17(h), we are seeking your comments on whether the submission satisfies the applicable program approval criteria of 30 CFR 732.15. If we approve the amendment, it will become part of the Pennsylvania program.

Public Availability of Comments

Before including your address, phone number, e-mail address, or other personal identifying information in your comment, you should be aware that your entire comment—including your personal identifying information—may be made publicly available at any time. While you may ask us in your comment to withhold your personal identifying information from public review, we cannot guarantee that we will be able to do so. We cannot ensure that comments received after the close of the comment period (see DATES) or sent to an address other than those listed above (see ADDRESSES) will be included in the docket for this rulemaking and considered.

Electronic or Written Comments

If you submit written comments, they should be specific, confined to issues pertinent to the proposed regulations, and explain the reason for any recommended change(s). We would appreciate all comments relating to this specific issue, but those most useful and likely to influence decisions on the final rule will be those that either involve personal experience or include citations to and analysis of the Surface Mining Control and Reclamation Act of 1977, its legislative history, its implementing regulations, case law, other State or Federal laws and regulations, data, technical literature, or other relevant publications.

List of Subjects in 30 CFR Part 938

Intergovernmental relations, Surface mining, Underground mining.

Dated: July 27, 2011.
Thomas D. Shope,
Regional Director,Appalachian Region.

[FR Doc. 2011-26762 Filed 10-14-11; 8:45 am]

BILLING CODE 4310-05-P